ENVIRONMENTAL PROTECTION AGENCY

[FRL-7788-9]

Federal Agency Hazardous Waste Compliance Docket

AGENCY: Environmental Protection Agency.

ACTION: Notice of nineteenth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this nineteenth update of the docket and includes facilities not previously listed on the docket and reported to EPA since the last update of the docket, 68 FR 69685, December 15, 2003, which was current as of August 14, 2003. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains 38 additions and 3 deletions since the previous update, as well as numerous other corrections to the docket list. At the time of publication of this notice, the new total number of Federal facilities listed on the docket is 2,293.

DATES: This list is current as of January 29, 2004.

FOR FURTHER INFORMATION CONTACT: Electronic versions of the docket may be obtained at http://www.epa.gov/compliance/cleanup/federal/index.html.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) to identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR44200); January 2, 2003 (68 FR 107); July 11, 2003 (68 FR 41353); and December 15, 2003 (68 FR 69685). This notice constitutes the nineteenth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Millán-Ramos (HBS)

U.S. EPA Region 1

#1 Congress St., Suite 1100

Boston, MA 02114-2023

(617) 918-1377

Helen Shannon (ERRD)

U.S. EPA Region 2

290 Broadway, 18th Floor

New York, NY 10007-1866

(212) 637-4260

Alida Karas (ERRD)

U.S. EPA Region 2

290 Broadway

New York, NY 10007-1866

(212) 637-4276

Cesar Lee (3HS50)

U.S. EPA Region 3

1650 Arch Street

Philadelphia, PA 19107

(215) 814-3205

Gena Townsend (4WD-FFB)

U.S. EPA Region 4

61 Forsyth St., SW

Atlanta, GA 30303

(404) 562-8538

Laura Ripley (SE-5J)

U.S. EPA Region 5

77 W. Jackson Blvd.

Chicago, IL 60604

(312) 886-6040

Philip Ofosu (6SF-RA)

U.S. EPA Region 6

1445 Ross Avenue

Dallas, TX 75202-2733

(214) 665-3178

D. Karla Asberry (FFSC)

U.S. EPA Region 7

901 N. Fifth Street

Kansas City, KS 66101

(913) 551-7595

Stan Zawistowski (EPR-F)

U.S. EPA Region 8

999 18th Street, Suite 500

Denver, CO 80202-2466

(303) 312-6255

Philip Armstrong (SFD-9-1)

U.S. EPA Region 9

75 Hawthorne Street

San Francisco, CA 94105

(415) 972-3098

Ken Marcy (ECL-115)

U.S. EPA Region 10

1200 Sixth Avenue

Seattle, WA 98101

(206) 553-2782

Monica Lindeman (ECL, SACU2)

U.S. EPA Region 10

1200 Sixth Avenue

Seattle, WA 98101

(206) 553-5113

2.0 Revisions of the Previous Docket

Following is a discussion of the revisions of the previous docket, including additions, deletions, and corrections.

2.1 Additions

Today, 38 facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the 38 facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs and have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, 3 facilities are being deleted from the docket. When facilities are deleted from the docket, it is for reasons such as incorrect reporting of hazardous waste activity, change in ownership, and exemption as an SQG under RCRA (40 CFR 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRAInfo), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Augusta K. Wills, Federal Agency Hazardous Waste Compliance Docket Coordinator, Federal Facilities Enforcement Office (Mail Code 2261A), U.S. Environmental Protection Agency, 1200 Pennsylvania Avenue NW., Washington, DC 20004.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Facility Status Reporting

EPA has expanded the docket database to include information on the NFRAP status of listed facilities. Indicating NFRAP status allows easy identification of facilities that, after submitting all necessary site assessment information, were found to warrant no further involvement on the part of EPA at the time of the status change. Accordingly, the docket database includes the following facility status codes:

U = Undetermined

N = No further remedial action planned (NFRAP)

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, an updated list of facilities having NFRAP status (those for which an “N” appears in the status field) was generated; the list of updates since the previous publication of the docket is being published today.

Important limitations apply to the list of facilities that have NFRAP status. First, the information is accurate only as of January 29, 2004. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this fifteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the complete list of facilities classified as no further remedial action planned (NFRAP) are not being published today. However, the lists are available to interested parties and can be obtained at http://www.epa.gov/compliance/cleanup/federal/index.html or by calling the HQ Docket Coordinator at (202) 564-2468. As of today, the total number of Federal facilities that appear on the docket is 2,293.

Dated: July 13, 2004.
David J. Kling,
Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Must Submit proof of previously performed PA, which is subject to approval by EPA)

(22) Changing Responsible Federal Agency and Facility Name (New Responsible Must Submit proof of previously performed PA, which is subject to approval by EPA)

(23) New Reporting Mechanism Added at Update

(24) Reporting Mechanism Determined to Be Not Applicable After Review of Regional Files

Note: Further information on definitions of categories can be obtained by calling Augusta K. Wills, the HQ Docket Coordinator at (202) 564-2468.

Federal Agency Hazardous Waste Compliance Docket #19—Additions
Facility name | Address | City | State | Zip code | Agency | Reporting mechanisms | Code
FS—Tongass NF: Apex Mine | T45S R56E S13,23,24 +57° 57′01″ N,−136°17′45″ W | Pelican | AK | 99832 | Agriculture | 103c | 19A
FS—Tongass NF: El Nido Mine | T45S R56E S13,13,24+57° 56′56″ N,−136° 17′ 01″ W | Pelican | AK | 99832 | Agriculture | 103c | 19A
FWS—Rose Atoll National Wildlife Refuge | Rose Atoll |  | AS |  | Interior | 3016 | 19A
FWS—Cabeza Prieta National Wildlife Refuge-Ajo Air Force | 1611 North Second Avenue | Ajo | AZ | 85321-1634 | Interior | 3016 | 19A
FWS—Imperial National Wildlife Refuge | Red Cloud Mine Road | Martinez Lake | AZ |  | Interior | 3016 | 19A
FWS—Sonny Bono Salton Sea National Wildlife Refuge | 906 West Sinclair Road | Calipatria | CA | 92233-9744 | Interior | 3016 | 19A
FWS—Sweetwater Marsh National Wildlife Refuge |  | Chula Vista and National City | CA |  | Interior | 3016 | 19A
FWS—San Diego National Wildlife Refuge-South San | 13910 Lyons Valley Road, Suite R | Jamul | CA | 91935-3805 | Interior | 3016 | 19A
FWS—Don Edwards San Francisco Bay National | P.O. Box 524 | Newark | CA | 94560-0524 | Interior | 3016 | 19A
Veterans Affairs Medical Center | 50 Irving St NW Code 138E IH | Washington | DC | 20422 | Veterans Affairs | 3010 | 19A
FWS—Prime Hook National Wildlife Refuge-Shooting | 11978 Turkle Pond Road | Milton | DE | 19968-9751 | Interior | 3016 | 19A
FWS—Guam National Wildlife Refuge-Ritidian Unit | Ritidian Point | Dededo | GU | 96912 | Interior | 3016 | 19A
FWS—James Campbell National Wildlife Refuge-Kii | Oahu National Wildlife Refuge Complex, P.O. Box 340 | Haleiwa | HI | 96712-0340 | Interior | 3016 | 19A
FWS—Hawaiian Islands National Wildlife Refuge | French Frigate Shoals, Tern Island |  | HI |  | Interior | 3016 | 19A
FWS—Hawaiian Islands National Wildlife Refuge | Laysan Island |  | HI |  | Interior | 3016 | 19A
FWS—Hawaiian Islands National Wildlife Refuge-pearl | Pearl and Hermes Reef |  | HI |  | Interior | 3016 | 19A
BLM—Osborne Mine | T7N R2E S33 NW¼ NE¼ +43°32′44.2″ N, −116°7′ | Horseshoe Bend | ID | 83629 | Interior | 103c | 19A
Defense Industrial Plant Equipment Facility | Old Route 1, Box 532, 6675 Sherman Road | Atchison | KS | 66002 | Defense | 103c | 19A
ME ARNG OMS#1 | 772 Stevens Avenue | Portland | ME | 04103-2696 | Army | 3010 | 19A
FWS—Detroit River International Wildlife Refuge | 6975 Mower Road | Saginaw | MI | 48601-9783 | Interior | 3016 | 19A
USDA FGIS Technical Center | 10383 N Ambassador Dr | Kansas City | MO | 64153 | Agriculture | 3010 | 19A
Jackson Homer (EX) Beacon Annex |  | Jackson | NE | 68743 | Transportation | 103c | 19A
Harvard (EX) Precision Bombing Range #5 | 25 Miles S.W. of Valentine | Valentine | NE | 69201 | Agriculture | 103c | 19A
FWS—Sheldon National Wildlife Refuge | Humbolt and Washoe Counties |  | NV |  | Interior | 3016 | 19A
FS—Ochoco NF: Champion Mine | T14S R19E S3 20 Mi NE of Prineville +44°23′22.1″ N,− | Prineville | OR | 97754 | Agriculture | 103c | 19A
FS—Ochoco NF: Little Hay Creek | T13S R19E S27 24 Mi NE of Prineville +44°25′12″ N, −120° | Prineville | OR | 97754 | Agriculture | 103c | 19A
FS—Ochoco NF: Ochoco Mine | T13S R20E S20 35 Mi NE of Prineville +44° 25′37.6″ N, − | Prineville | OR | 97754 | Agriculture | 103c | 19A
FWS—Jarvis Island National Wildlife Refuge | Jarvis Island |  | PI |  | Interior | 3016 | 19A
FWS—Palmyra Atoll National Wildlife Refuge | Palmyra Atoll |  | PI |  | Interior | 3016 | 19A
USA Charleston Army Depot | Remount Road | North Charleston | SC | 29406 | Army | 103c | 16
BLM—Abandoned Gravel Pit | 2370S. 2300W | Salt Lake City | UT | 84119 | Interior | 103c | 19A
BLM—Buckhorn Was Underground Explosive Site | 2370S. 2300W | Salt Lake City | UT | 84119 | Interior | 103c | 19A
BLM—Carrington Isl. Precision Bombing Range | 2370S. 2300W | Salt Lake City | UT | 84119 | Interior | 103c | 19A
BLM—Dugway Underground Explosive Site #5 | 2370S. 2300W | Salt Lake City | UT | 84119 | Interior | 103c | 19A
BLM—Wendover Bombing & Gunnery Range | 2370S. 2300W | Salt Lake City | UT | 84119 | Interior | 103c | 19A
BLM—Wendover Special Weapons Bombing Range | 2370S. 2300W | Salt Lake City | UT | 84119 | Interior | 103c | 19A
U.S. Army Ft. Douglas Toxic Exercise Area | AFZC-D-DEH | Salt Lake City | UT | 84113 | Army | 103c | 19A
USFS Santiquin Mudslide | 324 25TH ST | Salt Lake City | UT | 84401 | Agriculture | 103c 3016 | 19A

Federal Agency Hazardous Waste Compliance Docket #19—Deletions
Facility | Name | Address | City | State | Zip code | Agency | Reporting mechanism | Code
Point Mugu Naval Air Warfare Center | Pacific Coast Highway | Point Mugu | CA | 93042 | Navy | 3016 103a | 6
Naval Facilities Engineering Service Center | 560 Center Drive | Port Hueneme | CA | 93043 | Navy | 103a | 6
Southern Forest Experiment Station | 701 Loyola Avenue | New Orleans | LA |  | Agriculture | 3016 | 4

Federal Agency Hazardous Waste Compliance Docket Update #19—Corrections
| Facility name | Address | City | State | Zip code | Agency | Reporting mechanism | Code
c | Luke Waste Annex DRMO | 7011 N. El Mirage Rd | Glendale | AZ | 85307 | Air Force | 3005 3010 3016 | 23
o | Luke—El Mirage Road Landfill | 7011 N. El Mirage Rd | Glendale | AZ | 85307 | Air Force | 3016 |
c | BLM—Salambo Mine | T2S, R15E, Sec 32, NE¼, MDM | Tolumne County | CA | 95311 | Interior | 3016 103c | 20A
o | BLM—Salambo Mine | T25, R15, Sec 32, NE¼, MDM | Coulterville | CA | 95311 | Interior | 3016 103c |
c | Former Naval Housing Area—Novato | Main Entrance Rd at C St | Novato | CA | 94939 | Navy | 3010 3016 103c | 20A
o | Novato—Housing Facility | Branchy HSG Office Bldg. 1000 | Novato | CA | 94939 | Navy | 3010 3016 103c |
c | Former NAVMEDCEN Oakland | 8750 Mountain Blvd | Oakland | CA | 94605 | Navy | 3010 103c 3016 | 20A
o | Oakland Naval Regional Medical Center | 8750 Mountain Blvd | Oakland | CA | 94627 | Navy | 3010 103c 3016 |
c | NAVBASE Ventura County—Pt Mugu | 311 Main Rd Ste 1 | Point Mugu | CA | 93042 | Navy | 3005 3010 3016 103c | 23
o | Pacific Missile Test Center Point Mugu |  | Point Mugu | CA | 93042 | Navy | 3005 3010 103c 103a |
c | FISC San Diego—Point Loma Annex | 199 Rosecrans St | San Diego | CA | 92106 | Navy | 3005 3010 103c | 20A
o | Point Loma Naval Supply Center—Annex | NAVSUBSUPPFAC San Diego Bldg 546 | San Diego | CA | 92152 | Navy | 3005 3010 103c |
c | COMSPAWARSYSCOM San Diego | 4301 Pacific Hwy | San Diego | CA | 92110 | Navy | 3010 | 20A
o | NISE West (South Complex) | 4297 Pacific Hwy | San Diego | CA | 92186 | Navy | 3010 |
c | NAS North Island | McCain Blvd at Alameda Blvd | San Diego | CA | 92135 | Navy | 3005 3010 3016 103c | 20A
o | North Island Naval Air Station | SERE P.O. Box 14 | San Diego | CA | 92136-5118 | Navy | 3005 3010 3016 103c |
c | BLM—Klau Mine | S½, Sec 33, T26S, R10E, Mt Diablo | San Luis Obispo County | CA |  | Interior | 103c | 20A
o | BLM—Klau Mine | S½, Sec 33, T26S, R10E, Mt Diablo | San Luis County | CA |  | Interior | 103c |
c | General Services Administration | Rough & Ready Island Bldg 414 | Stockton | CA | 95203 | General Services Adminstration | 3010 103c | 20A
o | Stockton | Rough & Ready Island Bldg 414 | Stockton | CA | 95203 | General Services Adminstration | 3010 103c |
c | NAS North Island—Warner Springs SERE Camp | Warner Springs | Warner Springs | CA | 92086 | Navy | 103c 3016 | 20A
o | North Island Naval Air Station—SERE | P.O. Box 14 | San Diego | CA |  | Navy | 103c 3016 |
c | NGA—Washington Navy Yard | 1st St & M St SE | Washington | DC | 20374 | National Geospatial | 3010 | 22
o | National Imagery and Mapping Agency | 1st St & M St SE | Washington | DC | 20374 | National Imagery And Mapping | 3010 |
c | BLM—Lower Coeur D'Alene River | T48N R2 & R3W Cataldo/Rose Lake/Harrison | Harrison | ID | 83833 | Interior | 103c | 20A
o | BLM—Lower Coeur D'Alene River | T48N R2 & R3W | Harrison | ID | 83810 | Interior | 103C |
c | Boston Veterans Affairs Hospital | 150 South Huntington Ave | Boston | MA | 02130 | Veterans Affairs | 103c 3010 | 20A, 23
o | Boston Veterans Affairs Hospital | 150 S Huntington Rd | Boston | MA | 02130 | Veterans Affairs | 103c |
c | NGA-Bethesda | 4600 Sangamore Road | Bethesda | MD | 20816 | National Geospatial | 3010 | 20A, 22
o | Defense Mapping Agency HTC | 6100 MacArthur Blvd | Brookmont | MD | 20816 | Defense | 3010 |
c | USDA Avian Disease and Oncology Laboratory | 3606 East Mt Hope Rd | East Lansing | MI | 48823 | Agriculture | 3010 3016 103c | 20A, 23
o | Regional Poultry Research Laboratory | 3603 East Mt Hope Rd | East Lansing | MI | 48823 | Agriculture | 3016 103c |
c | NGA-St. Louis | 8900 S. Broadway | St. Louis | MO | 63118 | National Geospatial | 3010 103c | 22
o | NIMA—St. Louis | 8900 S Broadway | St. Louis | MO | 63118 | National Imagery And Mapping | 3010 103c |
c | NGA—St. Louis | 3200 S. Second Street | St. Louis | MO | 63118 | National Geospatial | 3010 103c | 22
o | NIMA—St. Louis | 3200 S. Second Street | St. Louis | MO | 63118 | National Imagery And Mapping | 3010 103c |
c | New Boston Air Force Station | 23 SOPS/CC, 317 Chestnut Hill Road | Amherst | NH | 03031-1518 | Air Force | 103c 3010 | 20A, 23
o | New Boston Air Force Station | Chestnut Hill Road | New Boston | NH | 03301 | Air Force | 103c |
c | FWS—Malheur NWR: Buena Vista Stn | E of Hwy 205 at 35 Mi S of Burns, 25 Mi SE of Princeton | Princeton | OR | 97721 | Interior | 103c 3016 | 23
o | FWS—Malheur NWR: Buena Vista Stn | E of Hwy 205 at 35 Mi S of Burns, 25 Mi SE of Pricneton | Princeton | OR | 97721 | Interior | 3016 |
c | Tobyhanna Army Depot | 11 Hap Arnold Blvd | Tobyhanna | PA | 18466-5086 | Army | 3005 3010 | 20A 3016 103c
o | Tobyhanna Army Depot | ATTN: SDSTO-AF-E | Scranton | PA | 18466 | Army | 3005 3010 3016 103c |
c | FWS—Midway Atoll | Midway Atoll |  | PI |  | Interior | 3010 301 103a 103C | 20A, 22, 23
o | Midway Island Naval Air Station | USNAVY NAS Midway | Midway Islands | MU | 96614 | Navy | 3016 103a 103c
c | John H. Kerr Reservoir | Route 1, Box 76 | Boydton | VA | 23917-9801 | Corps of Engineers, Civil | 3010 103c 3016 103a | 23
o | John H. Kerr Reservoir | Route 1, Box 76 | Boydton | VA | 23917-9801 | Corps of Engineers, Civil | 3010 103c 3016 |
c | Central Intelligence Agency Headquarters | Route 123 | Mclean | VA | 22101 | CIA | 3010 103c | 23 103a
o | Central Intelligence Agency Headquarters | Route 123 | Mclean | VA | 22101 | CIA | 3010 103c
c | FWS—Occoquan Bay National Wildlife Refuge | Dawson Beach Road | Woodbridge | VA | 22191 | Interior | 3016 103c | 22
o | Woodbridge Research Facility | Dawson Beach Road | Woodbridge | VA | 22191 | Army | 3016 103c |
c | FWS—Turnbull NWR: Smith Road Site | 26010 S Smith Rd, 3.5 MI S of Cheney | Cheney | WA | 99004 | Interior | 103c 3016 | 23
o | FWS—Turnbull NWR: Smith Road Site | 26010 S Smith Rd, 3.5 Mi S of Cheney | Cheney | WA | 99004 | Interior | 3016 |
c | FWS—Little Pend Oreille NWR: Landfill | 1310 Bear Creek Rd | Colville | WA | 99114 | Interior | 103c 3016 | 23
o | FWS—Little Pend Oreille NWR: Landfill | 1310 Bear Creek Rd, 3.5 Mi S of Colville | Colville | WA | 99114 | Interior | 3016 |
c | FWS—Willapa NWR: SE Long Island Area Site | SE Long Island, 8.5 Mi NE of Ilwaco +46.42 N,-123.933 W | Ilwaco | WA | 98624 | Interior | 103c 3016 | 23
o | FWS—Willapa NWR: SE Long Island Area Site | SE Long Island, 8.5 Mi NE of Ilwaco +46.42 N,-123.933 W | Ilwaco | WA | 98624 | Interior | 3016 |
c | FWS—Umatilla NWR: Whitcomb Island Unit | Whitcomb Isl, OFF Hwy 14, 2 Mi E of Whitcomb, 9 Mi W of | Paterson | WA | 99345 | Interior | 103c 3016 | 23
o | FWS—Umatilla NWR: Whitcomb Island Unit | Whitcomb Isl, OFF Hwy 14, 2 Mi E of Whitcomb, 9 Mi W of | Paterson | WA | 99345 | Interior | 3016 |
c | F.E. Warren Air Force Base | I-25 and Randall Avenue | Cheyenne | WY | 82005 | Air Force | 3005 3010 3016 103c | 20A
o | F.E. Warren Air Force Base | 90 CIV ENG SQ Bldg 320 | Cheyenne | WY | 82005 | Air Force | 3005 3010 3016 103c |

Federal Agency Hazardous Waste Compliance Docket Update #19—NFRAP Status Changes
Facility name | Address | City | State | Zip code | Agency | Reporting mechanism | NFRAP status
BLM—Osborne Mine | T7N R2E S33 NW¼ NE¼ +43°32′ 44.2″ N, −116° 7′ | Horseshoe Bend | ID | 83629 | Interior | 103c | N
BLM—Afton Canyon/Union Pacific Railroad | T10-11R4-6Sec 4-22 | Afton | CA | 92365 | Interior | 3016 103c
BLM—Blackrock Mine | T3S, R31E, Sec 13 & 14 MDM | Bishop | CA | 93514 | Interior | 3016 103c
BLM—Bodie Mine | T4N, R21E, Sec 9&8 MDM | Bridgeport | CA | 93517 | Interior | 3016 103c
BLM—Klau Mine | S½, Sec 33, T26S, R10E, Mt Diablo | San Luis Obispo County | CA |  | Interior | 103c
BLM—Salambo Mine | T2S, R15E, Sec 32, NE¼, MDM | Toulmne County | CA | 95311 | Interior | 3016 103c
BLM—Vallecitos Oilfield | T16S R11E Sec 25 | Hollister | CA | 95023 | Interior | 103c
Fort Douglas (Fort Carson Subinstallation) | AFZC-D-DEH | Salt Lake City | UT | 84113 | Army | 103c | U

[FR Doc. 04-16336 Filed 7-16-04; 8:45 am]

BILLING CODE 6560-50-P